GENERAL SERVICES ADMINISTRATION

[OMB Control No. 3090-0308; Docket No. 2022-0001; Sequence No. 5]

Submission for OMB Review; General Services Administration Acquisition Regulation (GSAR); Construction Contract Administration

AGENCY: Office of Acquisition Policy, General Services Administration (GSA).

ACTION: Notice and request for comments.

SUMMARY: Under the provisions of the Paperwork Reduction Act, the Regulatory Secretariat Division will be submitting to the Office of Management and Budget (OMB) a request to review and approve an extension of a previously approved information collection requirement regarding OMB Control No. 3090-0308, Construction Contract Administration.

DATES: Submit comments on or before: August 4, 2022.

ADDRESSES: Written comments and recommendations for this information collection should be sent within 30 days of publication of this notice to www.reginfo.gov/public/do/PRAMain. Find this particular information collection by selecting “Currently under Review—Open for Public Comments”; or by using the search function.

FOR FURTHER INFORMATION CONTACT: Mr. Marten Wallace, General Services Acquisition Policy Division, GSA, by phone at 202-286-5807 or by email at marten.wallace@gsa.gov.

SUPPLEMENTARY INFORMATION:

A. Purpose

The information collected is used by PBS to evaluate a contractor's proposals, negotiate contract modifications, evaluate a contractor's progress, and review payment requests during contract administration. The clause was previously GSAR 552.236-78 Shop Drawings, Coordination Drawings, and Schedules. The clause is simplified, including removing the requirement for a specific number of prints and copies of various submittals. This simplification will ease the compliance burden for the contractor during contract administration from the current state.

B. Annual Reporting Burden

Public reporting burden for GSAR 552.236-72 Submittals is estimated to average .25 hours per response, including the time for reviewing instructions, searching existing data sources, gathering and maintaining the data needed, and completing and reviewing the collection of information.

The annual reporting burden is estimated as follows:

Respondents: 890.

Responses per respondent: 5.

Total annual responses: 4,452.

Preparation hours per response: .25.

Total response burden hours: 1,113.

C. Public Comments

A 60-day notice published in the Federal Register at 87 FR 24303 on April 25, 2022. No comments were received.

Obtaining Copies of Proposals: Requesters may obtain a copy of the information collection documents from the GSA Regulatory Secretariat Division, by calling 202-501-4755 or emailing GSARegSec@gsa.gov.

Jeffrey A. Koses,
Senior Procurement Executive, Office of Acquisition Policy, Office of Government-wide Policy.

[FR Doc. 2022-14187 Filed 7-1-22; 8:45 am]

BILLING CODE 6820-61-P